DEPARTMENT OF ENERGY

Federal Energy Regulatory Commission

[Project No. 15242-000]

PacifiCorp; Notice of Preliminary Permit Application Accepted for Filing and Soliciting Comments, Motions To Intervene, and Competing Applications

On October 13, 2021, the PacifiCorp, filed an application for a preliminary permit, pursuant to section 4(f) of the Federal Power Act (FPA), proposing to study the feasibility of Electric Lake Pumped Storage Project to be located in Emery and Sanpete Counties, Utah. The sole purpose of a preliminary permit, if issued, is to grant the permit holder priority to file a license application during the permit term. A preliminary permit does not authorize the permit holder to perform any land-disturbing activities or otherwise enter upon lands or waters owned by others without the owners' express permission.

The proposed project would consist of the following: (1) The existing 31,500-acre-foot Electric Lake as the upper reservoir, which is impounded by the 229-foot-high, 8,586-foot-long Electric Lake Dam; (2) a new 3,900-foot-long, 375-foot-high concrete gravity dam; a new 820-foot-long, 85-foot-high embankment dam; and a new 1,300-foot-long, 150-foot-high embankment dam, each of which would impound a new 5,000-acre-foot upper reservoir; (3) a new 9,504-foot-long, 24-foot-diameter penstock; (4) a new underground powerhouse containing up to three 167-megawatt Francis pump-turbines generators; (5) a new 345-kilovolt, 55,968-foot-long transmission line that would connect the powerhouse to the PacifiCorp's existing Huntington-Mona 345-kilovolt transmission line; and (6) appurtenant facilities. The estimated annual power generation at the Electric Lake Pumped Storage Project would be 1,460 gigawatt-hours.

Applicant Contact: Mr. Tim Hemstreet, Managing Director, Renewable Energy Development PacifiCorp. 825 NE Multnomah, Suite 1800 Portland, OR 97232 Tim.hemstreet@pacificorp.com.

FERC Contact: Ousmane Sidibe; Phone: (202) 502-6245.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15242-000.

More information about this project, including a copy of the application, can be viewed or printed on the “eLibrary” link of Commission's website at https://www.ferc.gov/ferc-online/elibrary/overview. Enter the docket number (P-15242) in the docket number field to access the document. For assistance, contact FERC Online Support.

Dated: May 25, 2022.
Kimberly D. Bose,
Secretary.

[FR Doc. 2022-11774 Filed 6-1-22; 8:45 am]

BILLING CODE 6717-01-P